ENVIRONMENTAL PROTECTION AGENCY

40 CFR Part 52

[EPA-R05-OAR-2006-0012; FRL-8178-6]

Approval and Promulgation of Air Quality Implementation Plans; Minnesota; Alternative Public Participation Process

AGENCY: Environmental Protection Agency (EPA).

ACTION: Final rule.

SUMMARY: The EPA is approving a revision to the Minnesota State Implementation Plan (SIP) that will establish, pursuant to regulations on public hearings, an alternative public participation process for certain SIP revisions. EPA is approving the Minnesota SIP revision because we believe that the procedures set forth in Minnesota's request afford the public adequate opportunity to comment on these noncontroversial SIP revisions. In its SIP revision, Minnesota has identified a limited number of types of SIP revisions that have been found to be noncontroversial and in which the public has historically shown little or no interest. For this limited number of SIP revisions, the Minnesota Pollution Control Agency (MPCA) will offer the opportunity for a public hearing, but will not hold a hearing if one is not requested. The EPA agrees that the SIP types that have been identified by the MPCA have historically been noncontroversial and that offering the public the opportunity to request a public hearing rather than holding one automatically does not limit or curtail the public participation process. Also, EPA is acknowledging that a public hearing held at the time of the MPCA rulemaking, which meets the criteria for a SIP public hearing, precludes the need for a separate public hearing solely for SIP purposes.

EPA proposed to approve these revisions to the Minnesota SIP on February 1, 2006 and no adverse comments were received on this proposal. We are also taking this opportunity to correct a typographical error made in that proposed approval.

DATES: This final rule is effective on July 5, 2006.

ADDRESSES: EPA has established a docket for this action under Docket ID No. EPA-R05-OAR-2006-0012. All documents in the docket are listed on the http://www.regulations.gov Web site. Although listed in the index, some information is not publicly available, i.e., Confidential Business Information (CBI) or other information whose disclosure is restricted by statute. Certain other material, such as copyrighted material, is not placed on the Internet and will be publicly available only in hard copy form. Publicly available docket materials are available either electronically through http://www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Douglas Aburano, Environmental Engineer, at (312) 353-6960 before visiting the Region 5 office.

FOR FURTHER INFORMATION CONTACT: Douglas Aburano, Environmental Engineer, Criteria Pollutant Section, Air Programs Branch (AR-18J), Environmental Protection Agency, Region 5, 77 West Jackson Boulevard, Chicago, Illinois 60604, (312) 353-6960, aburano.douglas@epa.gov.

SUPPLEMENTARY INFORMATION: Throughout this document whenever “we,” “us,” or “our” is used, we mean EPA. This supplementary information section is arranged as follows:

I. Does This Action Apply to Me?

II. What Public Comments Were Received and What Is EPA's Response?

III. What Action Is EPA Taking Today?

IV. Additional Information

V. Statutory and Executive Order Reviews

I. Does This Action Apply to Me?

This action applies to anyone who participates in the public rulemaking process in Minnesota by submitting comments in writing or at public hearings held by the MPCA.

II. What Public Comments Were Received and What is EPA's Response?

No adverse comments were received. A comment from the State of Maryland was supportive of this approval. The comment stated that, “the revised administrative procedures will utilize the technological advances available today to save tax dollars while not compromising the public's ability to access and comment on SIP revisions.” Since this comment was supportive of the action being taken there is no need to respond to it.

III. What Action Is EPA Taking Today?

EPA is approving alternative public hearing processes in the State of Minnesota. The MPCA submitted a SIP revision listing a limited number of various types of SIP revisions that are noncontroversial and that the public has shown little or no interest in. The request to approve these alternative public hearing processes was submitted by MPCA on December 7, 2005. The MPCA held a public hearing on these alternative public hearing processes on November 17, 2005. EPA proposed to approve these alternative public hearing processes on February 1, 2006 (see 71 FR 5205). No adverse comments were received during the EPA's public comment period on the proposed approval.

We are approving an alternative process for a limited number of noncontroversial SIP revisions that will not require automatic public hearings. For this limited number of noncontroversial SIP revisions Minnesota will instead offer the public the opportunity to request a public hearing. If any one person requests a public hearing, then the MPCA will hold a public hearing at the end of the comment period for that SIP submittal. The approval of this alternative process is consistent with requirements found in 40 CFR 51.102(g). A description of the types of SIP revisions that would use this alternative process was provided in the proposed rule (see 71 FR 5209).

Minnesota also requested that we approve, pursuant to 40 CFR 51.102(g), public hearings held during the state rulemaking process as an alternative to a SIP public hearing. Because we view these public hearings as meeting the criteria under 40 CFR 51.102 we do not need to approve these as alternatives. EPA acknowledges that a public hearing held at the time of an MPCA rulemaking which meets the criteria for a SIP rulemaking precludes the need for a public hearing solely for SIP purposes.

IV. Additional Information

In the proposed approval of MPCA's SIP revision, we also solicited comments on the state's use of the Internet, via the Minnesota State Register and MPCA's own Web site, to inform the public of upcoming SIP revisions and public hearings. The one comment made in support of the February 1, 2006 proposed approval seemed to specifically support the use of electronic public notification.

We are also correcting a typographical error. On page 5208 of the proposed approval a reference was made to rule Minn. R. 7077.1400, it should have referred to rule Minn. R. 7007.1400.

V. Statutory and Executive Order Reviews

Executive Order 12866: Regulatory Planning and Review

Under Executive Order 12866 (58 FR 51735, October 4, 1993), this action is not a “significant regulatory action” and therefore is not subject to review by the Office of Management and Budget.

Executive Order 13211: Actions Concerning Regulations That Significantly Affect Energy Supply, Distribution, or Use

Because it is not a “significant regulatory action” under Executive Order 12866 or a “significant energy action,” this action is also not subject to Executive Order 13211, “Actions Concerning Regulations That Significantly Affect Energy Supply, Distribution, or Use” (66 FR 28355, May 22, 2001).

Regulatory Flexibility Act

This action merely approves state law as meeting federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

Executive Order 13175: Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (65 FR 67249, November 9, 2000).

Executive Order 13132: Federalism

This action also does not have Federalism implications because it does not have substantial direct effects on the states, on the relationship between the national government and the states, or on the distribution of power and responsibilities among the various levels of government, as specified in Executive Order 13132 (64 FR 43255, August 10, 1999). This action merely approves a state rule implementing a federal standard, and does not alter the relationship or the distribution of power and responsibilities established in the Clean Air Act.

Executive Order 13045: Protection of Children From Environmental Health and Safety Risks

This rule also is not subject to Executive Order 13045 “Protection of Children from Environmental Health Risks and Safety Risks” (62 FR 19885, April 23, 1997), because it is not economically significant.

National Technology Transfer Advancement Act

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under Section 307(b)(1) of the Clean Air Act, petitions for judicial review of this action must be filed in the United States Court of Appeals for the appropriate circuit by August 4, 2006. Filing a petition for reconsideration by the Administrator of this final rule does not affect the finality of this rule for the purposes of judicial review nor does it extend the time within which a petition for judicial review may be filed, and shall not postpone the effectiveness of such rule or action. This action may not be challenged later in proceedings to enforce its requirements. (See Section 307(b)(2).)

List of Subjects in 40 CFR Part 52

Environmental protection, Air pollution control, Intergovernmental relations.

Dated: May 24, 2006.
Cyndy Colantoni,
Acting Regional Administrator, Region 5.

40 CFR part 52 is amended as follows:

PART 52—[AMENDED]

1. The authority citation for part 52 continues to read as follows:

Subpart Y—Minnesota

2. In § 52.1220, the table in paragraph (e) is amended by adding an entry for “Alternative Public Participation Process” after the existing entries to read as follows:

§ 52.1220 Identification of plan.

* * * * *

(e) * * *

EPA-Approved Minnesota Nonregulatory Provisions
Name of nonregulatory SIP provision | Applicable geographic or nonattainment area | State submittal date/effective date | EPA approved date | Comments
* * * * * * *
Alternative Public Participation Process | Statewide | 12/07/05 | 07/05/06 [Insert page number where the document begins]
* * * * * * *

* * * * *

[FR Doc. 06-5052 Filed 6-2-06; 8:45 am]

BILLING CODE 6560-50-P